DEPARTMENT OF LABOR

Employment and Training Administration

TA-W-61,004, the Seydel Companies, Seydel-Woolley & Co., Inc., Division, Pendergrass, GA; Including Employees of the Seydel Companies, Seydel-Woolley Co., Inc., Division; Pendergrass, GA; Working Out of Various Other Locations: TA-W-61,004A, Portland, ME; TA-W-61,004B, Greenville, SC; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on March 14, 2007, applicable to workers of The Seydel Companies, Seydel-Woolley & Co., Inc., Division, Pendergrass, Georgia. The notice was published in the Federal Register on March 30, 2007 (72 FR 15168).

At the request of a company official, the Department reviewed the certification for workers of the subject firm. The workers produced textile chemicals.

New information shows that worker separations have occurred involving employees (Mr. Martin Folan and Mr. Dan Bull) in support of the and under the control of the Pendergrass, Georgia facility of The Seydel Companies, Seydel-Woolley & Co., Inc., Division working out of Portland, Maine and Greenville, South Carolina.

Based on these findings, the Department is amending this certification to include employees of the of the Pendergrass, Georgia location of the subject firm working out of Portland, Maine and Greenville, South Carolina.

The intent of the Department's certification is to include all workers of The Seydel Companies, Seydel-Woolley & Co., Inc., Division who were adversely affected by a shift in production textile chemicals to China.

The amended notice applicable to TA-W-61,004 is hereby issued as follows:

All workers of The Seydel Companies, Seydel-Woolley & Co., Inc., Division, Pendergrass, Georgia (TA-W-61,004), including employees in support of The Seydel Company, Seydel-Woolley & Co., Inc., Division, Pendergrass, Georgia working out of Portland, Maine (TA-W-61,004A) and Greenville, South Carolina (TA-W-61,004B), who became totally or partially separated from employment on or after February 12, 2006, through March 14, 2009, are eligible to apply for adjustment assistance under Section 223 of the Trade Act of 1974, and are also eligible to apply for alternative trade adjustment assistance under Section 246 of the Trade Act of 1974.

Signed at Washington, DC, this 18th day of August 2008.
Richard Church,
Certifying Officer, Division of Trade Adjustment Assistance.

[FR Doc. E8-20039 Filed 8-28-08; 8:45 am]

BILLING CODE 4510-FN-P